DEPARTMENT OF HEALTH AND HUMAN SERVICES

Centers for Disease Control and Prevention

[60Day-17-17AMO; Docket No. CDC-2017-0054]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comments on a proposed information collection project titled “Assessment of Restaurant Ill Worker Policies.”

DATES: Written comments must be received on or before September 12, 2017.

ADDRESSES: You may submit comments, identified by Docket No. CDC-2017-0054 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Assessment of Ill Worker Policies Study—NEW—National Center for Environmental Health (NCEH), Centers for Disease Control and Prevention (CDC).

Background and Brief Description

The Centers for Disease Control and Prevention (CDC) is requesting a new three-year Paperwork Reduction Act (PRA) clearance to conduct information collection entitled “Assessment of Ill Worker Policies Study.”

CDC's National Center for Environmental Health implements the Environmental Health Specialists Network (EHS-Net) program, which conducts studies to identify and understand environmental factors associated with foodborne illness outbreaks and other food safety issues (e.g., ill food workers). These data are essential to environmental public health regulators' efforts to respond more effectively to and prevent future outbreaks by identifying underlying causes and intervention strategies.

EHS-Net is a collaborative project of the CDC, the U.S. Food and Drug Administration (FDA), the U.S. Department of Agriculture (USDA), industry partners and eight state and local public health departments (California, Minnesota, New York, New York City, Rhode Island, Tennessee, Southern Nevada Health District, and Harris County Texas). CDC funds these state and local health departments, which enables them to collaborate on study design, collect study data, and co-analyze study data with CDC. The federal partners also provide funding and input into study design and data analysis.

Ill food service workers have long been identified as a source of contamination in restaurants. The 2013 FDA Food Code specifically addresses food worker health under section 2-201. However, even with these regulations in place food workers continue to serve as a source for disease transmission (e.g., Norovirus).

The FDA Food Code calls for excluding food workers from working in the restaurant that are diagnosed with an illness or have symptoms. Research has indicated that many food service workers have reported working while sick and that the reasons provided are multi-faceted. To assist in reducing this national disease burden, it is critical to develop and implement successful interventions that address the reasons that restaurant workers continue to work while sick. The goals of this study include:

(1) Assess the knowledge, attitudes and practices of both restaurant managers and workers to working while ill; and

(2) Assess whether an educational intervention will result in restaurants enhancing their ill worker management procedures.

The data from this study can be used to further develop educational materials, trainings, and tools that are targeted towards improving retail food establishment ill worker management practices. This improvement can contribute to a decrease in the number of food service workers that continue to work while ill in retail food establishments and a subsequent decrease in the contamination of foodstuffs from the ill worker.

This data collection request aims to address data gap by surveying restaurants on their ill worker polices through a quasi-experimental non-equivalent group pre- post-test design, with implementation of an educational intervention to randomly selected independently-owned restaurants in the catchment area. The assessments at each site visit will be the same in both the intervention and control restaurants. Data collection will consist of a manager interview to understand the current practices in the restaurant, a facility observation to observe the practices in place to prevent contamination from an employee, and a food worker survey to obtain their beliefs towards the current policies.

The educational intervention planned in the study is designed to encourage restaurants to develop ill worker management policies that have provisions to address the reasons that workers have reported working while ill. The efficacy of the intervention will be measured using a pre- post-test non-equivalent groups design.

If the intervention is resulting in having restaurants enhance their ill worker management policies; at the follow up visit, the intervention will be provided to the control restaurants and an additional follow up visit will occur in these restaurants.

For the purpose of the burden hours, eight sites will collect data in 40 restaurants. The total estimated annualized burden hours averaged over the three-year study period are 200 burden hours. Participation in this proposed information collection is completely voluntary. There is no cost to respondents other than their time.

Estimated Annualized Burden Hours
Type of respondents | Form name | Number of respondents | Number of responses per respondent | Average burden per response (in hours) | Total burden (in hours)
Restaurant Managers | Manager Recruiting Script | 237 | 1 | 3/60 | 12
Restaurant Managers (Intervention Restaurants) | Manager Informed Consent and Interview | 53 | 1 | 20/60 | 18
Restaurant Managers (Intervention Restaurants) | Guide to Developing a Restaurant Ill Worker Management Plan | 53 | 1 | 30/60 | 27
Food Workers (Intervention Restaurants) | Food Worker Informed Consent and Survey | 267 | 1 | 5/60 | 22
Health Department Workers (Intervention Restaurants) | Restaurant Observation Form | 53 | 1 | 30/60 | 27
Restaurant Managers (Control Restaurants) | Manager Informed Consent and Interview | 53 | 1 | 20/60 | 18
Restaurant Managers (Control Restaurants) | Guide to Developing a Restaurant Ill Worker Management Plan | 53 | 1 | 30/60 | 27
Food Workers (Control Restaurants) | Food Worker Informed Consent and Survey | 267 | 1 | 5/60 | 22
Health Department Workers (Control Restaurants) | Restaurant Observation Form | 53 | 1 | 30/60 | 27
Total |  |  |  |  | 200

Leroy A. Richardson,
Chief, Information Collection Review Office, Office of Scientific Integrity, Office of the Associate Director for Science, Office of the Director, Centers for Disease Control and Prevention.

[FR Doc. 2017-14791 Filed 7-13-17; 8:45 am]

BILLING CODE 4163-18-P